DEPARTMENT OF COMMERCE

National Oceanic and Atmospheric Administration

[RTID 0648-XB319]

Pacific Fishery Management Council; Public Meeting

AGENCY: National Marine Fisheries Service (NMFS), National Oceanic and Atmospheric Administration (NOAA), Commerce.

ACTION: Notice of public meeting.

SUMMARY: The Pacific Fishery Management Council's (Pacific Council) Ad Hoc Ecosystem Workgroup (EWG) is holding an online meeting and briefing for members of other Council advisory bodies. This meeting is open to the public.

DATES: The online meeting will be held Thursday, September 2, 2021, from 1:30 p.m. to 4:30 p.m.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Kit Dahl, Staff Officer, Pacific Council; telephone: (503) 820-2422.

SUPPLEMENTARY INFORMATION: At its March 2021 meeting the Pacific Council directed the EWG to prepare a final draft of the revised Fishery Ecosystem Plan (FEP) for review by the Council at its September 2021 meeting. The EWG will submit the final draft in the advance briefing book for the September meeting. As part of this online meeting the EWG Chair will provide a briefing for other advisory body members and members of the public to learn about updated sections in the final draft document. This should help to focus recommendations and comments on the revised FEP for Council consideration in providing further guidance to the EWG.

The EWG will then discuss potential recommendations for the FEP Climate and Communities Initiative, which the Council is scheduled to discuss at its September meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: August 11, 2021.
Tracey L. Thompson,
Acting Deputy Director, Office of Sustainable Fisheries, National Marine Fisheries Service.

[FR Doc. 2021-17446 Filed 8-13-21; 8:45 am]

BILLING CODE 3510-22-P